TENNESSEE VALLEY AUTHORITY

[Meeting No. 11-03]

Sunshine Act Meeting; August 18, 2011

The TVA Board of Directors will hold a public meeting on August 18, 2011, at the TVA West Tower Auditorium, 400 West Summit Hill Drive, Knoxville, Tennessee, to consider the matters listed below. The public may comment on any agenda item or subject at a public listening session which begins at 8:30 a.m. (ET). Following the end of the public listening session, the meeting will be called to order to consider the agenda items listed below. Please note: Due to the possibility of a large number of attendees, speakers are asked to pre-register online at TVA.gov prior to noon on Wednesday, August 17. On-site registration will be available until 15 minutes before the public listening session begins at 8:30 a.m. (ET). Pre-registered speakers will address the Board first. TVA management will answer questions from the news media following the Board meeting.

STATUS: Open

AGENDA

Chairman's Welcome

OLD BUSINESS:

Approval of minutes of April 14, 2011, Board Meeting

NEW BUSINESS:

1. Report from President and CEO (including Financial Report from CFO)

2. Report of the Nuclear Oversight Committee

A. Nuclear Safety

3. Report of the Finance, Rates, and Portfolio Committee

A. Asset Strategy Decisions

i. Sequoyah Relicensing

ii. Environmental Controls at Allen and Gallatin Fossil Plants

iii. Magnolia Combined Cycle Plant

4. Joint Report of the Finance, Rates, and Portfolio Committee and the Nuclear Oversight Committee

A. Bellefonte Nuclear Plant

5. Continuation of the Finance, Rates, and Portfolio Committee

A. Fiscal Year 2012 Budget and Business Plan

i. Fiscal Year 2012 Operating Budget

ii. Fiscal Year 2012 Capital Budget

iii. Rate Actions

iv. Retention of Net Power Proceeds

B. Fiscal Year 2012 Financial Bond Issuance Authority

C. Industrial Power Contracts

6. Report of the People and Performance Committee

A. TVA Medical Plan Contract

7. Report of the Customer and External Relations Committee

A. Natural Resource Plan

8. Report of the Audit, Risk, and Regulation Committee

A. Insurance Brokerage Contracts

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 11, 2011.
Ralph E. Rodgers,
General Counsel and Secretary.

[FR Doc. 2011-20917 Filed 8-12-11; 11:15 am]

BILLING CODE 8120-08-P